DEPARTMENT OF HOMELAND SECURITY

Federal Emergency Management Agency

[Docket ID FEMA-2007-0008]

National Advisory Council

AGENCY: Federal Emergency Management Agency, DHS.

ACTION: Committee management; notice of federal advisory committee meeting.

SUMMARY: The National Advisory Council (NAC) will meet by teleconference on September 14, 2011 for the purpose of discussing the Presidential Policy Directive 8 on National Preparedness. The meeting will be open to the public.

DATES: The teleconference will take place Wednesday, September 14, 2011, from 3 p.m. E.D.T. to 5 p.m. E.D.T. Please note that the meeting may close early if the National Advisory Council has completed its business. Written comments must be received by September 2, 2011.

ADDRESSES: The meeting will be held by teleconference only. Members of the public who wish to obtain the listen-only call-in number, access code, and other information for the public teleconference may contact Patricia A. Kalla as listed in the FOR FURTHER INFORMATION CONTACT section by close of business on September 13, 2011. For information on services for individuals with disabilities or to request special assistance, contact Patricia A. Kalla as soon as possible.

To facilitate public participation, we are inviting public comment on the issues to be considered by the committee as listed in the SUPPLEMENTARY INFORMATION section. Comments must be submitted in writing no later than September 2, 2011 and must be identified by Docket ID FEMA-2007-0008 and may be submitted by one of the following methods:

Federal Rulemaking Portal: http://www.regulations.gov. Follow the instructions for submitting comments.

E-mail: FEMA-RULES@dhs.gov. Include Docket ID FEMA-2007-0008 in the subject line of the message.

Fax: (703) 483-2999.

Mail: FEMA, Office of Chief Counsel, 500 C Street, SW., Room 840, Washington, DC 20472-3100.

Instructions: All submissions received must include the words “Federal Emergency Management Agency” and the Docket ID FEMA-2007-0008 for this action. Comments received will be posted without alteration at http://www.regulations.gov, including any personal information provided.

Docket: For access to the docket to read documents or comments received by the National Advisory Council, go to http://www.regulations.gov.

FOR FURTHER INFORMATION CONTACT: Patricia A. Kalla, Designated Federal Officer, FEMA, 500 C Street, SW., Room 832, Washington, DC 20472-3100, telephone 202-646-3746, fax 202-646-3930, and e-mail mailto:FEMA-NAC@dhs.gov. The NAC website is located at: http://www.fema.gov/about/nac/.

SUPPLEMENTARY INFORMATION: Notice of this meeting is given under the Federal Advisory Committee Act, 5 U.S.C. App. (Pub. L. 92-463).

The National Advisory Council (NAC) was established to ensure effective and ongoing coordination of Federal preparedness, protection, response, recovery, and mitigation for natural disasters, acts of terrorism, and other man-made disasters. The NAC advises the Administrator of the Federal Emergency Management Agency on all aspects of emergency management. The NAC incorporates State, local and tribal government and private sector input in the development and revision of the national preparedness goal, the national preparedness system, the National Incident Management System, the National Response Plan and other related plans and strategies.

Agenda: The NAC plans to discuss the March 30, 2011 Presidential Policy Directive 8 (PPD-8) on National Preparedness. PPD-8 directs the Secretary of Homeland Security to develop a national preparedness goal that identifies the core capabilities necessary for preparedness and a national preparedness system to guide activities that will enable the Nation to achieve the goal. The NAC plans to finalize recommendations on the development of the preparedness goal and incorporation of these recommendations into the preparedness goal. The draft national preparedness goal has been posted to Docket ID FEMA-2007-0008.

W. Craig Fugate,
Administrator, Federal Emergency Management Agency.

[FR Doc. 2011-22039 Filed 8-29-11; 8:45 am]

BILLING CODE 9111-48-P